NATIONAL AERONAUTICS AND SPACE ADMINISTRATION

[Notice 12-100]

Privacy Act of 1974; Privacy Act System of Records

AGENCY: National Aeronautics and Space Administration (NASA).

ACTION: Notice of proposed revisions to an existing Privacy Act system of records.

SUMMARY: Pursuant to the provisions of the Privacy Act of 1974 (5 U.S.C. 552a), the National Aeronautics and Space Administration is issuing public notice of its intention to revise a previously noticed system of records Earth Observing System Data and Information System (EOSDIS) User Information/GSFC 51EUI. This notice publishes updates of this system of records as set forth below under the caption SUPPLEMENTARY INFORMATION.

DATES: Submit comments on or before 60 calendar days from the date of this publication.

ADDRESSES: Patti Stockman, NASA Privacy Act Officer, Office of the Chief Information Officer, NASA Headquarters, 300 E Street SW., Washington, DC 20546-0001, 202-358-4787, NASA-PAOfficer@nasa.gov.

FOR FURTHER INFORMATION CONTACT: NASA Privacy Act Officer, Patti Stockman, 202-358-4787, NASA-PAOfficer@nasa.gov.

SUPPLEMENTARY INFORMATION: Revisions of this system of records include addition of locations and associated subsystem managers; and update of Routine Uses to include a new Routine Use.”

SYSTEM NUMBER:

GSFC 51EUID.

SYSTEM NAME:

Earth Observing System Data and Information System (EOSDIS) User Information.

SECURITY CLASSIFICATION:

None.

SYSTEM LOCATION:

Twelve DAACs locations, Clearing House (middleware system), Earth Science Data and Information System (ESDIS) Metrics System (system that gathers various metrics for EOSDIS) and the Land Atmosphere Near Real-time Capability for EOS (LANCE) as listed below:

1. Goddard Earth Sciences (GES) Data and Information Services Center (DISC) DAAC at Location 4 as set forth in Appendix A.

2. Level-1 Atmosphere Archive and Distribution System (LAADS) at Location 4 as set forth in Appendix A.

3. Ocean Biology Processing Group (OBPG) at Location 4 as set forth in Appendix A.

4. Crustal Dynamics Data and Information System (CDDIS) at Location 4 as set forth in Appendix A.

5. Atmospheric Science Data Center (ASDC) DAAC at Location 7 as set forth in Appendix A.

6. Global Hydrology Resource Center (GHRC) DAAC at Location 9 as set forth in Appendix A.

7. Physical Oceanography Distributed Active Archive Center (PO.DAAC) at Location 10 as set forth in Appendix A.

8. Alaska Satellite Facility SAR Data Center DAAC, University of Alaska, Fairbanks, AK 99775-7320.

9. Land Processes Distributed Active Archive Center (LP DAAC), Earth Resources Observation and Science (EROS), 47914 252nd Street, Sioux Falls, SD 57918-0001.

10. National Snow and Ice Data Center DAAC, University of Colorado, Boulder, CO 80309.

11. Oak Ridge National Laboratory DAAC, Oak Ridge, TN 37381-6407.

12. Socioeconomic Data and Applications Center, Center for International Earth Science Information Network (CIESIN) at Columbia University, Palisades, NY 10964.

13. EOS Clearing House (ECHO) at Location 4 as set forth in Appendix A.

14. ESDIS Metrics System (EMS) at Location 4 as set forth in Appendix A.

15. Land Atmosphere Near Real-time Capability for EOS (LANCE) at Location 4 as set forth in Appendix A.

CATEGORIES OF INDIVIDUALS COVERED BY THE SYSTEM:

Individuals from the NASA, university, and research communities, as well as the general public, who request satellite data or other data products from any of the EOSDIS DAACs indicated above, or individuals who register to save their data search parameters for reuse in the future.

CATEGORIES OF RECORDS IN THE SYSTEM:

Records in this system consist of information obtained from individual users that enables those users to receive notices of improved or altered data and services, as well as actual science data from EOSDIS, most often via on-line mechanisms. Records include an individual's name and business contact information consisting of mailing addresses, telephone numbers and email addresses.

AUTHORITY FOR MAINTENANCE OF THE SYSTEM:

51 U.S.C. 20113(a).

ROUTINE USES OF RECORDS MAINTAINED IN THE SYSTEM, INCLUDING CATEGORIES OF USERS AND THE PURPOSE OF SUCH USES:

Any disclosures of information will be compatible with the purpose for which the Agency collected the information. The records and information in these records may be disclosed:

(1) To government contractors conducting OMB-approved annual user satisfaction surveys collecting user feedback for aggregating reports to OMB and enabling NASA to improve its systems, processes, and services to the user community;

(2) To the European Space Agency (ESA) through public posting on a NASA Web site of ESA scientific data users' professional information such as their name, address, and organizational affiliation to achieve ESA member nation awareness of the breadth of their scientific data use (this applies to ESA scientific data hosted by NASA); and

(3) In accordance with NASA standard routine uses set forth in Appendix B.

POLICIES AND PRACTICES FOR STORING, RETRIEVING, ACCESSING, RETAINING, AND DISPOSING OF RECORDS IN THE SYSTEM:

STORAGE:

Records at all the entities named in section titled System Location are stored in electronic form.

RETRIEVABILITY:

User account records are typically indexed and retrieved by user's name.

SAFEGUARDS:

The records are in commercial data base management systems that are password-protected for access by only key authorized employees with appropriately configured system roles. Approved security plans for each of the 15 entities listed in the section titled System Location have been established in accordance with OMB Circular A-130, Management of Federal Information Resources. The aggregation of these plans constitutes the security plan for EOSDIS. Individuals will have access to the system only in accordance with approved authentication methods. With the exception of the records of ESA scientific data users' information posted in accordance with Routine Use (3) above, all specific user information kept in our systems is managed according to NASA guidelines for managing sensitive information. Paper and electronic copies are kept offline in locked cabinets. This information is updated on a yearly basis, and superseded records deleted.

RETENTION AND DISPOSAL:

The EOSDIS Project has a plan under configuration control according to which the original data are deleted in accordance with NASA Records Retention Schedule 2, Item 15A.3. Only aggregated statistics on those original records are kept. The DAACs reauthorize specific users' information on an approved basis and user information is deleted when no longer needed in accordance with NASA Records Retention Schedule 2, Item 19A. Mailing lists containing user information are maintained in order to permit distribution of newsletters to users and are disposed of according to the NASA Records Retention Schedule 1, Item 88.

SYSTEM MANAGERS AND ADDRESSES:

System Manager: 423/Science Operations Office Manager, ESDIS Project, Location 4 as set forth in Appendix A.

Subsystem Managers: DAAC Managers at each of the locations 1-12 whose addresses are listed under item System Location above; and 423/ECHO Manager, 423/EMS Manager, and 423/LANCE Manager, all at Location 4 as set forth in Appendix A.

NOTIFICATION PROCEDURE:

Individuals inquiring about their records should contact the System Manager at the address given above and provide their name and email address. The System Manager can be reached by phone at (301) 614-5048.

RECORD ACCESS PROCEDURE:

Individuals who wish to gain access to their records should submit their request in writing to the System Manager at the address provided or by phone at (301) 614-5048.

CONTESTING RECORD PROCEDURES:

The NASA regulations governing access to records and procedures for contesting the contents, and for appealing initial determinations are set forth in 14 CFR part 1212.

RECORD SOURCE CATEGORIES:

The information is received electronically or via telephone directly from users needing to obtain or access NASA's Earth science data products.

EXEMPTIONS CLAIMED FOR THE SYSTEM:

None.

Deborah Diaz,
Deputy Chief Information Officer.

[FR Doc. 2012-28342 Filed 11-20-12; 8:45 am]

BILLING CODE 7510-13-P